DEPARTMENT OF LABOR

Employment and Training Administration

[TA-W-38, 272]

Renfro Corporation Pulaski, Virginia; Amended Certification Regarding Eligibility To Apply for Worker Adjustment Assistance

In accordance with Section 223 of the Trade Act of 1974 (19 USC 2273) the Department of Labor issued a Certification of Eligibility to Apply for Worker Adjustment Assistance on November 3, 2000, applicable to all workers of Renfro Corporation, Finishing Department, located in Pulaski, Virginia. The notice was published in the Federal Register on December 6, 2000 (65 FR 76290).

At the request of petitioners, the Department reviewed the certification for workers of the subject firm. Information provided by the petitioners show that layoffs occurred in the Seaming Department at Renfro Corporation in Pulaski, Virginia. The workers are engaged in employment related to the production of socks.

The intent of the certification is to provide coverage to all workers of the subject firm impacted by increased imports of socks. Therefore, the Department is amending the certification to include all workers of the firm engaged in employment related to the production of socks, not just those in the Finishing Department.

The amended notice applicable to TA-W-38, 272 is hereby issued as follows:

All workers of Renfro Corporation, Pulaski, Virginia, engaged in employment related to the production of socks, who became totally or partially separated from employment on or after October 13, 1999, through November 3, 2002, are eligible to apply for adjustment assistance under Section 223 of the Trade Act of 1974.

Signed in Washington, DC this 17th day of April 2001.
Linda G. Poole,
Certifying Officer, Division of Trade Adjustment Assistance.

[FR Doc. 01-10946 Filed 5-1-01; 8:45 am]

BILLING CODE 4510-30-M